DEPARTMENT OF TRANSPORTATION

Coast Guard

33 CFR Part 165

[COTP Western Alaska-01-002]

RIN 2115-AA97

Safety Zone; Gulf of Alaska, Southeast of Narrow Cape, Kodiak Island, Alaska

AGENCY: Coast Guard, DOT.

ACTION: Temporary final rule; correction.

SUMMARY: The Coast Guard is correcting the effective period for a temporary final rule for a safety zone in the Gulf of Alaska, southeast of Narrow Cape, Kodiak Island, Alaska, that was published in the Federal Register on August 21, 2001. This correction is being made because of a late revision of a rocket launch date. This correction changes the effective period from 2 p.m. to 7:30 p.m. each day from August 31, 2001, through September 15, 2001, to the same hours on a single day, September 17, 2001.

DATES: Effective on August 29, 2001.

ADDRESSES: The public docket for this rulemaking is maintained by Coast Guard Marine Safety Office Anchorage, 510 “L” Street, Suite 100, Anchorage, AK 99501. Materials in the public docket are available for inspection and copying at Coast Guard Marine Safety Office Anchorage. Normal office hours are 7:30 a.m. to 4 p.m., Monday through Friday, except Federal holidays.

FOR FURTHER INFORMATION CONTACT: LCDR Diane Kalina, Marine Safety Office Anchorage, at (907) 271-6700.

SUPPLEMENTARY INFORMATION: The Coast Guard published a temporary final rule in the Federal Register on August 21, 2001, (66 FR 43774) establishing a temporary safety zone in the Gulf of Alaska, southeast of Narrow Cape, Kodiak Island, Alaska, effective from 2 p.m. on August 31, 2001 through 7:30 p.m. on September 15, 2001. The zone is needed to protect the safety of persons and vessels operating in the vicinity during a rocket launch from the Alaska Aerospace Development Corporation (AADC), Narrow Cape, Kodiak Island facility. The AADC recently revised the launch date to September 17, 2001. The Coast Guard is correcting the effective date of the rule to correspond with the new schedule for the launch date. This correction changes the 16-day effective period, between August 31 and September 15, 2001, to a single day, September 17, 2001.

In rule FR Doc. 01-21083 published on August 21, 2001 (66 FR 43774), make the following corrections. On page 43775, in the first column, on lines 3 through 5, remove “each day between August 31, 2001 and September 15, 2001” and replace it with “on September 17, 2001”. On page 43775, in the first column, on lines 27 through 29, remove “each day between August 31, 2001 and September 15, 2001” and replace it with “on September 17, 2001”. On page 43775, in the second column, on lines 36 and 37, remove “from August 31, 2001 to September 15, 2001” and replace it with “on September 17, 2001”. On page 43776, in the second column, on lines 4 through 6, (paragraph (b)), remove “from 2 p.m. on August 31, 2001, until 7:30 p.m. on September 15, 2001” with “from 2 p.m. through 7:30 p.m. on September 17, 2001”.

Dated: August 22, 2001.
W.J. Hutmacher,
Captain, U.S. Coast Guard,Captain of the Port, Western Alaska.

[FR Doc. 01-21833 Filed 8-28-01; 8:45 am]

BILLING CODE 4910-15-P